ENVIRONMENTAL PROTECTION AGENCY

[FRL-9941-00-OW]

National Coastal Condition Assessment 2010

AGENCY: Environmental Protection Agency (EPA).

ACTION: Notice of availability.

SUMMARY: This notice announces the availability of the final National Coastal Condition Assessment (NCCA) 2010. The NCCA describes the results of a nationwide coastal probabilistic survey that was conducted in the summer of 2010 by the Environmental Protection Agency (EPA) and its state, tribal, and federal partners. Results include estimates of coastal area with good, fair, and poor biological quality, water quality, sediment quality, and ecological fish tissue quality. Results are presented nationally and regionally for the Northeast, Southeast, Gulf of Mexico, West, and Great Lakes coasts. The NCCA 2010 also includes information on how the survey was implemented, and future actions and challenges.

FOR FURTHER INFORMATION CONTACT: Hugh Sullivan, Office of Wetlands, Oceans and Watersheds, Office of Water, Washington DC Phone: 202-564-1763; email: sullivan.hugh@epa.gov.

SUPPLEMENTARY INFORMATION:

I. General Information

To better answer questions about the condition of waters across the country, EPA and its state and tribal partners have embarked on a series of surveys under the National Aquatic Resource Surveys (NARS) program. The NCCA 2010 is the most recent in this series of surveys. The key goals of the NCCA 2010 are to describe the ecological condition of the nation's coastal and Great Lakes nearshore waters, how those conditions are changing, and the key stressors affecting those waters. An important component of the NCCA is collaboration with state, tribal, and federal partners in developing new monitoring tools and analytical approaches and in advancing the science of coastal monitoring. The survey uses a statistical design to sample 1,104 randomly-selected sites that represent the condition of the larger population of coastal waters in the conterminous United States. This is the first time the nearshore waters of the Great Lakes have been included in a national statistically-based survey.

The report finds that more than half of the nation's coastal and Great Lakes nearshore waters are rated in good condition for biological and sediment quality, while about one third are rated in good condition for water quality and less than one percent are rated in good condition based on the potential harm that fish tissue contaminants pose to predator fish, birds, and wildlife. Excessive phosphorus is the greatest contributor to the poor water quality rating. Selenium is the greatest contributor to the poor rating for potential harm to predator fish, birds and wildlife from fish tissue contaminants. The draft report has undergone peer, state and EPA review.

A. How can I get copies of the NCCA 2010 and other related information?

You may access the NCCA 2010 from EPA's Web site at http://www.epa.gov/national-aquatic-resource-surveys/ncca.

Dated: January 13, 2016.
Joel Beauvais,
Deputy Assistant Administrator, Office of Water.

[FR Doc. 2016-01152 Filed 1-20-16; 8:45 am]

BILLING CODE 6560-50-P